DEPARTMENT OF HEALTH AND HUMAN SERVICES

Office of the Secretary

[Document Identifier: HHS-OS-0955—New—30D]

Agency Information Collection Activities; Submission to OMB for Review and Approval; Public Comment Request

AGENCY: Office of the Secretary, HHS.

ACTION: Notice.

SUMMARY: In compliance with section 3507(a)(1)(D) of the Paperwork Reduction Act of 1995, the Office of the Secretary (OS), Department of Health and Human Services, has submitted an Information Collection Request (ICR), described below, to the Office of Management and Budget (OMB) for review and approval. The ICR is for a new collection. Comments submitted during the first public review of this ICR will be provided to OMB. OMB will accept further comments from the public on this ICR during the review and approval period.

DATES: Comments on the ICR must be received on or before July 17, 2014.

ADDRESSES: Submit your comments to OIRA_submission@omb.eop.gov or via facsimile to (202) 395-5806.

FOR FURTHER INFORMATION CONTACT: Information Collection Clearance staff, Sherrette.Funn@hhs.gov or (202) 690-6162.

SUPPLEMENTARY INFORMATION: When submitting comments or requesting information, please include the Information Collection Request Title and document identifier HHS-OS-0955—New—30D for reference.

Information Collection Request Title: The Blue Button Connector.

Abstract: Office of the National Coordinator for Health Information Technology, is requesting an approval on a new information collection. The Blue Button Connector is a Web site that helps consumers and patients find their own health information online from the entities that collect their information (i.e. hospitals, physicians, labs, immunization registries, state health information exchanges etc.). The Connector also helps developers build tools that respond to the readiness of the market. It also will provide links to apps and tools for consumers that use structured electronic health data.

Likely Respondents: Any entity providing health services to patients and or collecting health information on consumers which includes but is not limited to: Hospitals, physicians, labs, immunization registries, and state health information exchanges. Respondents will also include application developers with the capability to consume health information in a structured format from a patient.

Burden Statement: Organizations that would like to be listed on the Connector will fill out a 3-5 minute survey of nine questions. The survey will ask health data holding organizations to provide basic information about their access capabilities, reach, contact information and links to where patients could go to get their health data.

The total annual burden hours estimated for this ICR are summarized in the table below.

Total Estimated Annualized Burden—Hours
Type of respondent | Number of respondents | Number of responses per respondent | Average burden per response (in hours) | Total burden hours
Providers | 2,000 | 1 | 3/60 | 100
Hospitals | 500 | 1 | 3/60 | 25
Labs | 10 | 1 | 3/60 | .5
State Immunization Registries | 7 | 1 | 3/60 | .35
Pharmacies | 10 | 1 | 3/60 | .5
State HIEs | 15 | 1 | 3/60 | .75
Total |  |  |  | 127

Darius Taylor,
Information Collection Clearance Officer.

[FR Doc. 2014-14068 Filed 6-16-14; 8:45 am]

BILLING CODE 4150-05-P